ENVIRONMENTAL PROTECTION AGENCY

[FRL-8335-7]

Notice of Availability of Draft NPDES General Permits for Noncontact Cooling Water Discharges in the States of Massachusetts and New Hampshire

AGENCY: Environmental Protection Agency (EPA).

ACTION: Notice of Draft NpPDES General Permits, MAG250000 and NHG250000.

SUMMARY: The Director of the Office of Ecosystem Protection, EPA-New England, is issuing notice of availability of the draft National Pollutant Discharge Elimination System (NPDES) general permits for noncontact cooling water (NCCW) discharges to certain waters of the Commonwealth of Massachusetts and the State of New Hampshire. These General Permits replace the NCCW General Permits which expired on April 25, 2005.

These draft General Permits establish Notice of Intent (NOI) requirements, effluent limitations, standards, prohibitions, and management practices for facilities discharging NCCW. Owners and/or operators of facilities discharging NCCW, including those currently authorized to discharge under the expired General Permits, will be required to submit an NOI to be covered by the General Permit to both EPA-New England and the appropriate state agency. After EPA and the State have reviewed the NOI, the facility will receive a written notification from EPA of permit coverage and authorization to discharge under the General Permit. The eligibility requirements for coverage under this General Permit are discussed in detail under Part 3 of the General Permit. The reader is strongly urged to go to that section to determine eligibility before reading further.

Public Comment Period: Interested persons may submit comments on the draft General Permits to the EPA-Region I. Interested persons may also request, in writing, that EPA hold a public hearing pursuant to 40 CFR 124.12, on the draft . All comments and requests for public hearings must be postmarked or delivered before midnight August 6, 2007, the close of the public comment period. All public comments or requests for a public hearing must be submitted to the address below.

Adresses and Contact Information: Written comments on the draft General Permit may be hand delivered or mailed to Ms. Austine Frawley, EPA-Region 1, Office of Ecosystem Protection, CIP, 1 Congress Street, Suite 1100, Boston, Massachusetts 02114-2023, or sent via e-mail to frawley.austine@epa.gov. No facsimiles (faxes) will be accepted.

The draft General Permits are based on an administrative record available for public review at EPA-Region 1, Office of Ecosystem Protection, 1 Congress Street, Suite 1100, Boston, Massachusetts 02114-2023, Monday-Friday from 9 am-5 pm. For further information contact Ms. Frawley at 617-918-1065, between the hours of 9 a.m. and 5 p.m., Monday through Friday, excluding holidays.

SUPPLEMENTARY INFORMATION: The draft General Permits and a Fact Sheet may be viewed over the Internet via the EPA-Region 1 Web site. The Fact Sheet and General Permit for dischargers in Massachusetts are at http://www.epa.gov/ne/npdes/mass.html. The Fact Sheet and General Permit for dischargers in New Hampshire are at http://www.epa.gov/ne/npdes/newhampshire.html. To obtain a paper copy of the documents, please contact Ms. Frawley using the contact information provided above. A reasonable fee may be charged for copying requests. When the General Permit is issued, the notice of final issuance will be published in the Federal Register. The General Permit shall be effective on the date specified in the notice of final issuance, and it will expire at midnight, five (5) years from the last of the month preceding the effective date.

Dated: June 22, 2007.
Robert Varney,
Regional Administrator, Region 1.

[FR Doc. E7-12990 Filed 7-3-07; 8:45 am]

BILLING CODE 6560-50-P